ENVIRONMENTAL PROTECTION AGENCY

[ER-FRL-9032-8]

Environmental Impact Statements; Notice of Availability

Responsible Agency: Office of Federal Activities, General Information (202) 564-7146 or http://www.epa.gov/nepa.

Weekly Receipt of Environmental Impact Statements (EISs)

Filed 04/17/2017 through 04/21/2017

Pursuant to 40 CFR 1506.9.

Notice

Section 309(a) of the Clean Air Act requires that EPA make public its comments on EISs issued by other Federal agencies. EPA's comment letters on EISs are available at: http://www.epa.gov/compliance/nepa/eisdata.html.

EIS No. 20170064, Draft, USFS, CA, Horse Creek Community Protection and Forest Restoration Project, Comment Period Ends: 06/13/2017, Contact: Lisa Bousfield 530-493-1766.

EIS No. 20170065, Draft, FHWA, TXDOT, TX, North Houston Highway Improvement Project, Comment Period Ends: 06/27/2017, Contact: Carlos Swonke 512-416-2734.

The Texas Department of Transportation is the Lead Agency for the above project.

EIS No. 20170066, Final Supplement, USFS, OR, Ochoco Summit Trail System, Review Period Ends: 05/30/2017, Contact: Marcy Anderson 541-416-6463.

EIS No. 20170067, Final, VA, KY, Replacement Robley Rex VA Medical Center, Review Period Ends: 05/30/2017, Contact: Glenn Wittman 224-610-3531.

EIS No. 20170068, Final, DOE, Other, ADOPTION—Delfin LNG Deepwater Port, Contact: Kyle Moorman 202-586-7970, The Department of Energy (DOE) has adopted the U.S. Coast Guard and the U.S. Maritime Administration's FEIS #20160277, filed with EPA on 11/18/2016. The DOE was a cooperating agency for this project. Therefore, recirculation of the EIS is not deemed necessary under Section 1506.3(c) of the CEQ Regulations.

Amended Notices

EIS No. 20170011, Draft, APHIS, Other, Revisions to USDA-APHIS 7 CFR part 340 Regulations Governing the Importation, Interstate Movement, and Environmental Release of Genetically Engineered Organisms, Comment Period Ends: 06/19/2017, Contact: Cindy Eck 301-851-3892, Revision to Federal Register Notice Published 01/23/2017; Extending Comment Period from 05/22/2017 to 06/19/2017.

Dated: April 25, 2017.
Dawn Roberts,
Management Analyst, NEPA Compliance Division Office of Federal Activities.

[FR Doc. 2017-08639 Filed 4-27-17; 8:45 am]

BILLING CODE 6560-50-P